FEDERAL HOUSING FINANCE AGENCY

12 CFR Part 1291

Federal Home Loan Banks' Affordable Housing Program

CFR Correction

In Title 12 of the Code of Federal Regulations, Part 1100 to End, revised as of January 1, 2014, on page 344, in § 1291.5, in paragraphs (c)(13)(iii)(A) and (B) remove the term “951.9 of this part” and add “1291.9” in its place, and on page 345, in paragraph (c)(14)(iii), remove the term “951.8, and 951.9, respectively, of this part” and add in its place “1291.8, and 1291.9”.

[FR Doc. 2014-30469 Filed 12-24-14; 8:45 am]

BILLING CODE 1505-01-D